POSTAL SERVICE

39 CFR Part 111

Express Mail Refunds for Shipments of Live Animals

AGENCY: Postal Service.

ACTION: Proposed rule.

SUMMARY: The Postal Service proposes to revise its refund guarantees for Express Mail® shipments of live animals in an effort to maintain the economic viability of shipping animals as a service.

DATES: Submit comments on or before May 14, 2009.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor N, Washington, DC between 9 a.m. and 4 p.m., Monday through Friday. E-mail comments, containing the name and address of the commenter, may be sent to MailingStandards@usps.gov, with a subject line of “Express Mail Refunds for Shipments of Lives Comments.” Faxed comments will not be accepted.

FOR FURTHER INFORMATION CONTACT: Joel Rosen, 202-268-4329 or Monica Grein, 202-268-8411.

SUPPLEMENTARY INFORMATION: The Postal Service proposes to revise the Mailing Standards of the United States Postal Service, Domestic Mail Manual (DMM®) by changing the refund guarantees for Express Mail shipments of live animals delivered within 3 days of the date of mailing. In some instances, the Postal Service must reroute Express Mail shipments of live animals to alternative flights or routes in order to protect the well-being of the live animals. This is particularly necessary if other shipments on the same flight contain dry ice or solid carbon dioxide, which will evaporate en route and may displace oxygen. If live animals were shipped in the same cargo hold, the carbon dioxide could cause asphyxiation. The use of alternative flights and rerouting to protect the well-being of the live animals can delay shipments. Therefore, even though the live animals arrive as promptly as possible and in good health, these shipments may not meet normal Express Mail service guarantees. In those instances, some mailers then apply for full postage refunds.

Currently, postage refunds for Express Mail shipments of live animals are granted based on the next day or second day delivery guarantee provided at the time of mailing. This current postage refund policy does not account for the flight changes that may occur to protect the well-being of the animals. Therefore, the Postal Service is proposing that Express Mail shipments containing live animals be exempt from the next day or second day delivery guarantee and that the delivery commitment for Express Mail of live animals be extended to within 3 days of the date of mailing. Postage refund requests for Express Mail shipments of live animals delivered after 3 days of the date of mailing would still be granted.

Although we are exempt from the notice and comment requirements of the Administrative Procedure Act [5 U.S.C. 553(b), (c)], regarding proposed rulemaking by 39 U.S.C. 410(a), the Postal Service invites comments on the following proposed revision of the Mailing Standards of the United States Postal Service, Domestic Mail Manual, incorporated by reference in the Code of Federal Regulations. See 39 CFR part 111.

List of Subjects in 39 CFR Part 111

Administrative practice and procedure, Postal Service.

Accordingly, 39 CFR is proposed to be amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

100 Retail Mail Letters, Cards, Flats, and Parcels

* * * * *

110 Retail Mail Express Mail

* * * * *

114 Postage Payment Methods

* * * * *

3.0 Postage Refunds

3.1 Postage Not Refunded

[Revise the introductory paragraph of 3.1 to read as follows:]

Postage refunds may not be available if delivery was attempted within the times required for the specific service, or for any of the following reasons:

[Revise the first sentence of item a, and add a new item c as follows:]

a. If the item was properly detained for law enforcement purpose; strike or work stoppage; delayed because of an incorrect ZIP Code or address; forwarding or return service was provided after the item was made available for claim; delay or cancellation of flights. * * *

* * * * *

c. The shipment contained live animals and was delivered or delivery was attempted within three days of the date of mailing as shown in the “Date In” box on Label 11.

* * * * *

400 Commercial Mail Parcels

* * * * *

410 Commercial Parcels Express Mail

* * * * *

414 Postage Payment and Documentation

* * * * *

3.0 Postage Refunds

[Revise the introductory paragraph of 3.0 to read as follows:]

Postage refunds may not be available if delivery was attempted within the times required for the specific service, or for any of the following reasons:

[Revise the first sentence of item a and add a new item c as follows:]

a. If the item was properly detained for law enforcement purpose; strike or work stoppage; delayed because of an incorrect ZIP Code or address; forwarding or return service was provided after the item was made available for claim; delay or cancellation of flights. * * *

* * * * *

c. The shipment contained live animals and was delivered or delivery was attempted within three days of the date of mailing as shown in the “Date In” box on Label 11.

* * * * *

600 Basic Standards For All Mailing Services

601 Mailability

* * * * *

9.0 Perishables

* * * * *

9.3 Live Animals

* * * * *

9.3.4 Adult Fowl

* * * * *

[Add a new item d to read as follows:]

d. Postage refunds may not be available if the Express Mail shipment was delivered or delivery was attempted within three days of the date of mailing as shown in the “Date In” box on Label 11.

* * * * *

604 Postage Payment Methods

* * * * *

9.0 Refunds and Exchanges

* * * * *

9.2 Postage and Fee Refunds

* * * * *

9.2.4 Full Refund

A full refund (100%) may be made when:

[Revise item l to read as follows:]

l. Express Mail is not delivered according to the applicable service standard, except as provided in 114.3.1 and 414.3.0. * * *

* * * * *

We will publish an appropriate amendment to 39 CFR 111 to reflect these changes if our proposal is adopted.

Stanley F. Mires,
Chief Counsel, Legislative.

[FR Doc. E9-8531 Filed 4-13-09; 8:45 am]

BILLING CODE 7710-12-P